DEPARTMENT OF TRANSPORTATION

Pipeline and Hazardous Materials Safety Administration

Actions on Special Permit Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (August to August 2012). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on September 10, 2012.
Donald Burger,
Chief, Special Permits and Approvals Branch.

S.P. No. | Applicant | Regulation(s) | Nature of special permit thereof
Modification Special Permit Granted
14298-M | Air Products and Chemicals, Inc., Allentown, PA | 49 CFR 180.209(a) and (b) | To modify the special permit to authorize an additional Division 2.1 hazardous material, to increase maximum acceptance flaw size used on UE requalification and other miscellaneous revisions.
12516-M | Poly-Coat Systems, Inc., Liverpool, TX | 49 CFR 107.503(b)(c); 172.102(c)(3) B15 and 823; 173.241; 173.242; 178.345-1; -2; -3; -4; -7; -14; -15; 178.347-1; -2; 178.348-1; 178.348-2; 180.405; 180.413(d) | To modify the special permit that authorizes the manufacture, mark, sale and use of non-DOT specification cargo tanks constructed of fiberglass reinforced plastic by increasing the volumetric capacity.
New Special Permit Granted
15610-N | WavesinSolids LLC, State College, PA | 49 CFR 180.209, 180.209(a), 180.205(c)(f)(g) (i), 173.302a (b)(2)(3)(4)(5), 180.213, 180.519(a), 180.519(b)(c) | To authorize the transportation in commerce of certain gases in DOT 3A, 3AA, 3AX, 3AAX and 3T cylinders. The cylinders (tubes) are retested by acoustic emission and ultrasonic examination (AE/UE) described in paragraph 7 below in place of the internal visual inspection and the hydrostatic retest required in § 180.205. (modes 1, 2, 3)
15568-N | ATK Launch Systems Corinne, UT | 49 CFR 172.101(b) | To authorize the transportation in commerce soils containing solid explosive compounds (not greater than 3%) in bulk. (mode 1)
15577-N | Olin Corporation Oxford, MS | 49 CFR 172.101 column 8, 173.62(b), 173.60(b)(8), 172.300(d) | To authorize the tansportation in commerce of certain Division 1.4 in non-DOT specification packagings without labels and markings to a distance not to exceed 200 yards by motor vehicle, subject to the limitations and special requirements specified herein. (modes 1, 2)
15623-N | Ledwell & Son Enterprises, Inc., Texarkana, TX | 49 CFR 173.202, 173.203, 173.241, 173.242 | To authorize the manufacture, marking, sale and use of multiple non-DOT specification containers, manifolded together within a frame and securely mounted on a truck chassis, for the transportation in commerce of the materials authorized by this special permit. (mode 1)
15654-N | T. SCOTT DUNN CONSTRUCTION, INC. DBA, Heli-Dunn, Phoenix, OR | 49 CFR 172.101 Column (9B), 172.204(c)(3), 173.27(b)(2), 172.200, 172.300, Part 173, 175.30(a) (1) and 175.75 | To authorize the transportation in commerce of certain hazardous materials by cargo only aircraft and 14 CFR Part 133 Rotorcraft External Load Operations transporting hazardous materials attached to or suspended from an aircraft, in remote areas of the US only, without being subject to hazard communication requirements, quantity limitations and certain loading and stowage requirements. (mode 4)
15636-N | Ward Air, Inc., Juneau, AK | 49 CFR 172.101 Column (9B) | To authorize the transportation in commerce of certain Class 1 explosive materials which are forbidden for transportation by air, to be transported by cargo aircraft within the State of Alaska when other means of transportation are impracticable or not available. (mode 4)
15631-N | Atlas Air, Inc. Miami, FL | 49 CFR 172.101 Column (9B), 172.204(c)(3), 173.27(b)(2)(3) | To authorize the transportation in commerce of Division 1.1 explosives, which are forbidden, by cargo-only aircraft. (mode 4)
Emergency Special Permit Granted
15647-N | Thunderbird Cylinder, Inc., Phoenix, AZ | 49 CFR 179.7 and 180.505 | To authorize retesting of certain DOT Specification and non-DOT Specification multi unit tank car tanks. (modes 1, 2).
15637-N | Textron Inc., Wilmington, MA | 49 CFR 172.101 Column (9B), 172.204(c)(3), 173.27(b)(2)(3) | To authorize the transportation in commerce of Division 1.1 explosives, which are forbidden, by cargo-only aircraft. (mode 4)
15664-N | Pollux Aviation Ltd., Wasilla, AK | 49 CFR 172.101 Column (9B); 175.30(a)(1) | To authorize the transportation in commerce of liquefied petroleum gas in amounts that exceed the quantity limitations for transportation by 14 CFR Part 133 Rotorcraft External Load Operations transporting hazardous materials attached to or suspended from an aircraft only in the State of Alaska. (mode 4)
15677-N | Arkema, Inc., King of Prussia, PA | 49 CFR 173.304(b) | To authorize the transportation in PA commerce of DOT Specification 39 thirty pound cylinders by highway, which have the potential to react during transportation. (mode 1)
15689-N | AVL Test Systems Inc., Plymouth, MI | 49 CFR 172.200, 177.834 | To authorize the discharge of a Division 2.1 material from an authorized DOT specification cylinder without removing the cylinder from the vehicle on which it is transported. (mode 1)
15685-N | National Air Cargo Group, Inc. dba, National Airlines, Ypsilanti, MI | 49 CFR 172.101 Column (9B); 172.204(c)(3); 173.27(b)(2)(3); 175.30 | To authorize the transportation in commerce by cargo only aircraft of Class 1 explosives which are forbidden or exceed quantities presently authorized. (mode 4)
15696-N | Lantis Fireworks and Lasers, Draper, UT | 49 CFR 172.300, 172.400 and 173.56 | To authorize the one-time, one-way transportation in commerce of 2142 kg of unapproved fireworks from Carson, CA to the Lantis Fireworks & Lasers facility in Fairfield, UT for destruction by motor vehicle. (mode 1)
Emergency Special Permit Withdrawn
15670-N | Volga-Dnepr Airlines, Ulyanovsk | 49 CFR 172.101 Column (9B), 172.204(c)(3), 173.27, and 175.30(a)(1) | To authorize the one-time transportation in commerce of certain Division 1.2 explosives that are forbidden for transportation by cargo only aircraft. (mode 4)
15682-N | Kalitta Air, LLC, Ypsilanti, MI | 49 CFR 172.101 Column (9B); 172.204(c)(3); 173.27(b)(2)(3); 175.30(a)(1) | To authorize the one-time transportation in commerce of certain explosives that are forbidden for transportation by cargo only aircraft.
Denied
15080-N | Request by Alaska Airlines Seattle, WA August 27, 2012. To authorize the transportation in commerce of cylinders containing oxidizing gases without rigid outer packagings without outer packaging capable of passing the Flame Penetration and Resistance Test and the Thermal Resistance Test when no other practical means of transportation exist.
Denied
10964-M | Request by Kidde Aerospace & Defense Wilson, NC August 1, 2012. To modify the permit to authorize a rework procedure to allow fire extinguishers which were “steel stamped” to be returned to within original specifications.

[FR Doc. 2012-22783 Filed 9-18-12; 8:45 am]

BILLING CODE 4909-60-M